DEPARTMENT OF ENERGY

Federal Energy Regulatory Commission

Combined Notice of Filings # 1

December 4, 2007.

Take notice that the Commission received the following electric corporate filings:

Docket Numbers: EC08-18-000.

Applicants: Lowell Cogeneration Company Limited Part, Delta Power Company, LLC, Pedricktown Plant Holdings, LLC.

Description: Application for authorization for disposition of jurisdictional facilities and requests for expedited action re Lowell Cogeneration Company Limited Partnership.

Filed Date: 11/28/2007.

Accession Number: 20071130-0077.

Comment Date: 5 p.m. Eastern Time on Wednesday, December 19, 2007.

Take notice that the Commission received the following electric rate filings:

Docket Numbers: ER01-1385-031; ER01-3155-022; ER04-230-032.

Applicants: Consolidated Edison Company of New York; New York Independent System Operator, Inc.

Description: New York Independent System Operator's Filing of Twelfth Quarterly Combined Cycle Modeling Report et al.

Filed Date: 11/30/2007.

Accession Number: 20071130-5065.

Comment Date: 5 p.m. Eastern Time on Friday, December 21, 2007.

Docket Numbers: ER05-1232-000; ER05-283-000.

Applicants: JPMorgan Ventures Energy Corporation; JPMorgan Chase Bank, N.A.

Description: Notice of Non-Material Change in Status Regarding Market-Based Rate Authority of JPMorgan Chase Bank, N.A., et al.

Filed Date: 11/30/2007.

Accession Number: 20071130-5121.

Comment Date: 5 p.m. Eastern Time on Friday, December 21, 2007.

Docket Numbers: ER06-1308-004.

Applicants: Midwest ISO.

Description: Midwest ISO, Inc submits its Withdrawal Fee Recalculation Agreement with E. ON US, LLC and proposed compliance revisions to Schedules 10 et al. of their FERC Electric Tariff, Third Revised Volume 1.

Filed Date: 11/21/2007.

Accession Number: 20071130-0070.

Comment Date: 5 p.m. Eastern Time on Wednesday, December 12, 2007.

Docket Numbers: ER06-1399-004.

Applicants: Sunbury Generation LP.

Description: Supplement to Notice of Change in Status of Sunbury Generation, et al.

Filed Date: 11/28/2007.

Accession Number: 20071128-5078.

Comment Date: 5 p.m. Eastern Time on Wednesday, December 19, 2007.

Docket Numbers: ER07-525-003.

Applicants: Entergy Services Inc.

Description: Entergy Services Inc submits its refund report paid to America Electric Power Service Corporation issued on 10/18/07.

Filed Date: 11/29/2007.

Accession Number: 20071203-0031.

Comment Date: 5 p.m. Eastern Time on Thursday, December 20, 2007.

Docket Numbers: ER07-539-004.

Applicants: Niagara Mohawk Power Corporation.

Description: Electric Refund Report (Compliance Only) of Niagara Mohawk Power Corporation.

Filed Date: 11/29/2007.

Accession Number: 20071129-5074.

Comment Date: 5 p.m. Eastern Time on Thursday, December 20, 2007.

Docket Numbers: ER07-540-003.

Applicants: Niagara Mohawk Power Corporation.

Description: Electric Refund Report (Compliance Only) of Niagara Mohawk Power Corporation.

Filed Date: 11/29/2007.

Accession Number: 20071129-5080.

Comment Date: 5 p.m. Eastern Time on Thursday, December 20, 2007.

Docket Numbers: ER07-541-003.

Applicants: Entergy Services Inc.

Description: Entergy Services Inc submits its refund report paid to NRG Power Marketing Inc.

Filed Date: 11/29/2007.

Accession Number: 20071203-0030.

Comment Date: 5 p.m. Eastern Time on Thursday, December 20, 2007.

Docket Numbers: ER07-1019-004; ER07-1020-003; ER07-1021-003.

Applicants: Niagara Mohawk Power Corporation.

Description: Niagara Mohawk Power Corp submits an amended interconnection agreement to Alliance Energy et al.

Filed Date: 11/29/2007.

Accession Number: 20071130-0128.

Comment Date: 5 p.m. Eastern Time on Thursday, December 20, 2007.

Docket Numbers: ER07-1094-002.

Applicants: Niagara Mohawk Power Corporation.

Description: Electric Refund Report (Compliance Only) of Niagara Mohawk Power Corporation.

Filed Date: 11/30/2007.

Accession Number: 20071130-5068.

Comment Date: 5 p.m. Eastern Time on Friday, December 21, 2007.

Docket Numbers: ER07-1103-002.

Applicants: Niagara Mohawk Power Corporation.

Description: Electric Refund Report (Compliance Only) of Niagara Mohawk Power Corporation et al.

Filed Date: 11/30/2007.

Accession Number: 20071130-5070.

Comment Date: 5 p.m. Eastern Time on Friday, December 21, 2007.

Docket Numbers: ER07-1125-003.

Applicants: Niagara Mohawk Power Corporation.

Description: Electric Refund Report (Compliance Only) of Niagara Mohawk Power Corporation.

Filed Date: 11/30/2007.

Accession Number: 20071130-5071.

Comment Date: 5 p.m. Eastern Time on Friday, December 21, 2007.

Docket Numbers: ER07-1126-003.

Applicants: Niagara Mohawk Power Corporation.

Description: Electric Refund Report (Compliance Only) of Niagara Mohawk Power Corporation.

Filed Date: 11/30/2007.

Accession Number: 20071130-5073.

Comment Date: 5 p.m. Eastern Time on Friday, December 21, 2007.

Docket Numbers: ER07-1289-003.

Applicants: ISO New England Inc.

Description: ISO New England, Inc submits its 11/14/07 informational report, pursuant to FERC's 10/29/07 Order.

Filed Date: 11/28/2007.

Accession Number: 20071130-0067.

Comment Date: 5 p.m. Eastern Time on Wednesday, December 19, 2007.

Docket Numbers: ER07-1311-001.

Applicants: Southwest Power Pool, Inc.

Description: Southwest Power Pool, Inc submits their response to FERC's 10/29/07 letter that requested additional information.

Filed Date: 11/28/2007.

Accession Number: 20071130-0068.

Comment Date: 5 p.m. Eastern Time on Wednesday, December 19, 2007.

Docket Numbers: ER07-1396-001.

Applicants: American Electric Power Service Corp.

Description: Ohio Power Co and Columbus Southern Power Co submits the Third Revised Repair and Maintenance Agreement—Exhibit A-10 with American Municipal Power-Ohio, Inc.

Filed Date: 11/28/2007.

Accession Number: 20071129-0026.

Comment Date: 5 p.m. Eastern Time on Wednesday, December 19, 2007.

Docket Numbers: ER08-256-000.

Applicants: Northern States Power Company.

Description: Xcel Energy Services, Inc et al. submit a jointly executed Joint Pricing Zone Revenue Allocation Agreement.

Filed Date: 11/27/200.

Accession Number: 20071129-0025.

Comment Date: 5 p.m. Eastern Time on Tuesday, December 18, 2007.

Docket Numbers: ER08-257-000.

Applicants: Wisconsin Electric Power Company.

Description: Wisconsin Electric Power Co submits tariff revisions to the Restated Power Service Agreement with Ontonagon County Rural Electrification Association.

Filed Date: 11/27/2007.

Accession Number: 20071129-0024.

Comment Date: 5 p.m. Eastern Time on Tuesday, December 18, 2007.

Docket Numbers: ER08-258-000.

Applicants: Wisconsin Electric Power Company.

Description: Wisconsin Electric Power Co submits tariff revisions to the Restated Power Service Agreement with Alger Delta Cooperative Electric Association.

Filed Date: 11/27/2007.

Accession Number: 20071129-0023.

Comment Date: 5 p.m. Eastern Time on Tuesday, December 18, 2007.

Docket Numbers: ER08-259-000.

Applicants: Duquesne Light Company.

Description: Notice of Change in Status and Compliance Filings of Duquesne Light Company, Duquesne Power, L.P., Duquesne Keystone LLC, and Duquesne Conemaugh LLC.

Filed Date: 11/21/2007.

Accession Number: 20071121-5131.

Comment Date: 5 p.m. Eastern Time on Wednesday, December 12, 2007.

Docket Numbers: ER08-260-000.

Applicants: Duquesne Conemaugh, LLC.

Description: Notice of Change in Status and Compliance Filings of Duquesne Light Company, Duquesne Power, L.P., Duquesne Keystone LLC, and Duquesne Conemaugh LLC.

Filed Date: 11/21/2007.

Accession Number: 20071121-5131.

Comment Date: 5 p.m. Eastern Time on Wednesday, December 12, 2007.

Docket Numbers: ER08-261-000.

Applicants: Westar Energy, Inc.

Description: Westar Energy, Inc submits its Sixth Revised Sheet 1 and 4 to its First Revised Rate Schedule 233, an Electric Power Supply Agreement with City of Robinson, Kansas under ER08-261.

Filed Date: 11/28/2007.

Accession Number: 20071130-0074.

Comment Date: 5 p.m. Eastern Time on Wednesday, December 19, 2007.

Docket Numbers: ER08-262-000.

Applicants: Indiana Michigan Power Company.

Description: Indiana Michigan Power Co submits First Revised Sheet 15 and 53 et al to FERC Electric Rate Schedule 103.

Filed Date: 11/28/2007.

Accession Number: 20071130-0073.

Comment Date: 5 p.m. Eastern Time on Wednesday, December 19, 2007.

Docket Numbers: ER08-263-000.

Applicants: American Electric Power Service Corp.

Description: AEP Operating Companies submits the Second Revised Interconnection and Local Delivery Service Agreement with the Town of Avilla, Indiana.

Filed Date: 11/28/2007.

Accession Number: 20071130-0072.

Comment Date: 5 p.m. Eastern Time on Wednesday, December 19, 2007.

Docket Numbers: ER08-264-000.

Applicants: CP Power Sales Twelve, L.L.C.

Description: CP Power Sales Twelve, LLC submits a Notice of Cancellation of its FERC Electric Tariff, First Revised Volume 1.

Filed Date: 11/29/2007.

Accession Number: 20071130-0071.

Comment Date: 5 p.m. Eastern Time on Thursday, December 20, 2007.

Docket Numbers: ER08-265-000.

Applicants: ISO New England Inc.

Description: ISO New England, Inc submits revisions to the New Brunswick System Operator Coordination Agreement.

Filed Date: 11/29/2007.

Accession Number: 20071130-0130.

Comment Date: 5 p.m. Eastern Time on Thursday, December 20, 2007.

Docket Numbers: ER08-266-000.

Applicants: Public Service Company of New Mexico.

Description: Public Service Company of New Mexico submits Notices of Cancellation of the vintage service agreements under its Open Access Transmission Tariff et al.

Filed Date: 11/29/2007.

Accession Number: 20071130-0129.

Comment Date: 5 p.m. Eastern Time on Thursday, December 20, 2007.

Docket Numbers: ER08-267-000.

Applicants: Pacific Gas and Electric Company.

Description: Pacific Gas and Electric Co submits Rate Schedules 77, 88, 91, 136, 143 and Open Access Transmission Tariff, First Revised Volume 12.

Filed Date: 11/30/2007.

Accession Number: 20071203-0057.

Comment Date: 5 p.m. Eastern Time on Friday, December 21, 2007.

Take notice that the Commission received the following public utility holding company filings:

Docket Numbers: PH08-9-000.

Applicants: Alinda Capital Partners LLC.

Description: FERC Form 65 A Exemption Notification of Alinda Capital Partners, LLC under PH08-9.

Filed Date: 11/28/2007.

Accession Number: 20071130-0075.

Comment Date: 5 p.m. Eastern Time on Wednesday, December 19, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E7-23932 Filed 12-10-07; 8:45 am]

BILLING CODE 6717-01-P